DEPARTMENT OF AGRICULTURE

Rural Utilities Service

[Docket No.: RUS-24-ELECTRIC-0027]

60-Day Notice of Proposed Information Collection: Electric Engineering, Architectural Services and Design Policies and Procedures; OMB Control No.: 0572-0118

AGENCY: Rural Utilities Service, USDA.

ACTION: Notice; request for comments.

SUMMARY: In accordance with the Paperwork Reduction Act of 1995, this notice announces the Rural Utilities Service (RUS) intention to request a revision of a currently approved information collection and invites comments on this information collection.

DATES: Comments on this notice must be received by December 9, 2024, to be assured of consideration.

ADDRESSES: Comments may be submitted through the Federal eRulemaking Portal: Go to http://www.regulations.gov and, in the “Search Field” box, labeled “Search for dockets and documents on agency actions,” enter the following docket number: (RUS-24-ELECTRIC-0027), and click “Search.” To submit public comments, select the “Comment” button. Before inputting your comments, you may also review the “Commenter's Checklist” (optional). Insert your comments under the “Comment” title, click “Browse” to attach files (if applicable). Input your email address and select an identity category then click “Submit Comment.”

Information on using Regulations.gov, including instructions for accessing documents, submitting comments, and viewing the docket after the close of the comment period, is available through the site's “FAQ” link.

FOR FURTHER INFORMATION CONTACT: MaryPat Daskal, Chief, Branch 1, Rural Development Innovation Center—Regulations Management Division, U.S. Department of Agriculture, 1400 Independence Avenue SW, STOP 1522, South Building, Washington, DC 20250-1522. Telephone: (202) 720-7853. Email: MaryPat.Daskal@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an existing information collection that the Agency is submitting to OMB for revision.

Title: 7 CFR part 1724 and 1738, Electric Engineering, Architectural Services and Design Policies and Procedures.

OMB Control Number: 0572-0118.

Expiration Date of Approval: January 31, 2025.

Type of Request: Revision of a currently approved collection.

Estimate of Burden: Public reporting burden for this collection of information is estimated to average 2 hours per response.

Respondents: Businesses, not-for-profit institutions and others.

Estimated Number of Respondents: 4.

Estimated Number of Responses per Respondent: 1.

Estimated Number of Responses: 4.

Estimated Total Annual Burden on Respondents: 8 hours.

Abstract: The Agency requires borrowers to use standard contract forms under certain circumstances. The use of standard forms helps assure the Agency that appropriate standards and specifications are maintained, that the Agency's loan security is not adversely affected, and that loan and loan guarantee funds are used effectively and for the intended purpose. Standardization of forms by the Agency results in substantial savings to Borrowers. If standard forms were not used, borrowers would be required to prepare documents, and the government would require extensively and costly review by both the Agency and the Office of General Counsel. The contract forms included in this collection of information are RUS Form 211, “Engineering Service Contract for the Design and Construction of a Generating Plant,” RUS Form 220, “Architectural Services Contract,” and RUS Form 236, Engineering Service Contract, “Electric System Design and Construction.”

Comments are invited on: (a) whether this collection of information is necessary for the proper performance of the functions of the Agency, including whether the information will have practical utility; (b) the accuracy of the Agency's estimate of the burden of the collection of information including the validity of the methodology and assumptions used; (c) ways to enhance the quality, utility, and clarity of the information to be collected; and (d) ways to minimize the burden of the collection of information on those who respond, including through the use of appropriate automated, electronic, mechanical or other technological collection techniques, or other forms of information technology.

Copies of this information collection can be obtained from Kimble Brown, Rural Development Innovation Center, Regulations Management Division, at Kimble.brown@usda.gov. All responses to this notice will be summarized and included in the request for OMB approval. All comments will also become a matter of public record.

Andrew Berke,
Administrator, Rural Utilities Service.

[FR Doc. 2024-23484 Filed 10-9-24; 8:45 am]

BILLING CODE 3410-15-P